DEPARTMENT OF TRANSPORTATION

Coast Guard

33 CFR Part 100, 110, and 165

[CGD01-99-194]

RIN 2115-AA 97, AA 98, AE 46

Temporary Regulations: Opsail Maine 2000, Portland, ME

AGENCY: Coast Guard, DOT.

ACTION: Notice of proposed rulemaking.

SUMMARY: The Coast Guard proposes to establish a regulated area, safety zone and anchorage grounds during OPSAIL MAINE 2000 events to be held between July 28 and 31, 2000 in the port of Portland, Maine. These regulations are necessary to promote the safe navigation of vessels, and the safety of life and property during the heavy volume of vessel traffic expected during this event.

DATES: Comments and related material must reach the Coast Guard on or before May 16, 2000.

ADDRESSES: Comments should be mailed to: Commanding Officer, U.S. Coast Guard Marine Safety Office, 103 Commercial St. Portland, Maine 04101-4726. The Response and Planning Department, Coast Guard Marine Safety Office maintains the public docket for this rulemaking. Comments and material received from the public, as well as documents indicated in this preamble as being available in the docket, will become part of this docket and will be available for inspection or copying at the Coast Guard Marine Safety Office between 8 a.m. and 4 p.m., Monday through Friday, except Federal Holidays.

FOR FURTHER INFORMATION CONTACT: Lieutenant R. Timme, Chief of Response and Planning, Marine Safety Office, Portland at (207) 780-3251.

SUPPLEMENTARY INFORMATION:

Request for Comments

The Coast Guard encourages interested persons to participate in this rulemaking by submitting comments and related material. Each person submitting comments should include his/her name and address, identify the docket number for this rulemaking [CGD1-99-194-195-196], indicate the specific section of this document to which each comment applies, and give the reason for each comment. Please submit all comments and related material in an unbound format, no larger than 8\1/4\ by 11 inches, suitable for copying. Persons requesting acknowledgment of receipt of comments should include a stamped, self-addressed postcard or envelope. All comments and material received during the comment period will be considered by the Coast Guard and may change this proposed regulation.

Public Hearing

The Coast Guard does not plan to hold a public hearing. Persons may request a public meeting by writing to Commander, First Coast Guard District (m) via Marine Safety Office Portland, at the address listed under ADDRESSES. The request should include reasons why a public hearing would be beneficial. If the Coast Guard determines that oral presentations would aid this rulemaking, a hearing will be held at a time and place announced by a later notice in the Federal Register.

Background and Purpose

OPSAIL Maine 2000, Inc. is sponsoring the OPSAIL Maine 2000 Parade of Tall ships as well as a fireworks display. These events are scheduled to take place between July 28th and 30th 2000 in the Port of Portland and surrounding waters. The Coast Guard anticipates up to 1,000 spectator craft for these events. The proposed rulemaking will provide specific guidance on temporary anchorage regulations, vessel movement controls, and safety zones that will be in effect at various times in those waters during the period July 28-30, 2000. The Coast Guard may establish additional regulated areas, anchorage grounds and safety zones once confirmation of the exact number of participating vessels becomes available.

Discussion of Proposed Rule

OPSAIL MAINE 2000, Inc is sponsoring OPSAIL MAINE 2000. This event will consist of a parade of sailing vessels from Portland Head Light past a reviewing stand located at Anchorage B. This parade will continue to Portland Main where the vessels will turn west-southwest and go to berth throughout the Port of Portland.

The Coast Guard estimates up to 1,000 spectator craft will attend the events. The proposed regulations create temporary anchorage regulations, vessel movement controls, and safety zones. The regulations will be in effect at various times in Portland Harbor between July 28-30, 2000. The vessel congestion due to the large number of participating and spectator vessels poses a significant threat to the safety of life. This proposed rulemaking is necessary to ensure the safety of life on the navigable waters of the United States.

Regulated Areas

The Coast Guard proposes to establish a regulated area in Portland Harbor that will be in effect on July 28, 2000. This proposed regulated area is needed to protect the maritime public and participating vessels from possible hazards to navigation associated with a parade of tall ships transiting the waters of Portland outer harbor in close proximity; and a large number of Tall Ships and spectator craft anchored in close proximity throughout the duration of these events. This regulated area includes vessel anchoring and operating restrictions.

This Regulated Area covers the waters of Portland Harbor Outer Harbor, Main Harbor and vicinity. It includes the following temporary anchorages established under 33 CFR § 110.T133 created under this rule: Anchorage B, Anchorage C, Anchorage D offshore of South Portland, and Anchorage E off the southeast shore of Cushing Island. Following the tall ship parade, Portland Harbor will reopen in sequence with the movement and mooring of the final flotilla of tall ships. After the final flotilla of tall ships has passed Anchorage B, vessel operators anchored in the anchorage areas may depart for locations outside Portland Harbor. This proposed regulated area is effective from 11 a.m. until 4 p.m. on July 28, 2000.

Anchorage Regulations

The Coast Guard also proposes to establish temporary Anchorage Regulations for participating OPSAIL MAINE 2000 ships and spectator craft. The Anchorage regulations in 33 CFR § 110.132 will be temporarily suspended by this regulation and new Anchorage Grounds and regulations will be temporarily established. The proposed anchorage regulations temporarily establish Anchorage grounds for spectator vessel use only. They restrict all other vessels from using these anchorage grounds during a portion of the OPSAIL MAINE 2000 event. Anchorage B will contain the official reviewing vessel. Anchorage C is designated for small vessel temporary anchorages. Additionally, Spectator Anchorage D is designated offshore of South Portland in the Outer Harbor, and Spectator Anchorage E is designated on the southeast shore of Cushing Island. These are needed to provide viewing areas for spectator vessels while maintaining a clear parade route for the participating OPSAIL MAINE 2000 vessels and to protect boaters and spectator vessels from the hazards associated with a parade of tall ships transiting in close proximity in the waters of Portland Harbor. These proposed regulations are effective from 11 a.m. until 4 p.m. on July 28, 2000.

Safety Zones

The Coast Guard proposes to establish a safety zone in Portland Harbor for a fireworks display, that will be in effect on July 28, 2000. In the case of inclement weather, the fireworks display will be held on either July 29, or July 30, 2000 and the safety zone would be in effect on those dates. The proposed safety zone is needed to protect the maritime public from possible hazards associated with the launching of fireworks in Portland Harbor. The safety zone covers a 1500 foot radius around a barge located in Anchorage A for the fireworks display. This proposed regulation is in effect from 9 p.m. until 11 p.m. on July 28-30, 2000.

Regulatory Evaluation

This proposed rule is not a “significant regulatory action” under section 3(f) of Executive Order 12866 and does not require an assessment of potential costs and benefits under section 6(a)(3) of that order. The office of Management and Budget has not reviewed it under that Order. It is not significant under the regulatory policies and procedures of the Department of Transportation (DOT) (44 FR 11040; February 26, 1979).

Due to the short duration of these marine events and fireworks events and the advance notice provided to the maritime community, the Coast Guard expects the economic impact of this regulation to be so minimal that a full Regulatory Evaluation under paragraph 10(e) of the regulatory policies and procedures of the Department of Transportation is unnecessary.

Small Entities

Under the Regulatory Flexibility Act (5 U.S.C. 601-612), we considered whether this proposed rule will have a significant economic impact on a substantial number of small entities. The term “small entities” comprises small businesses, not-for-profit organizations that are independently owned and operated and are not dominant in their fields, and governmental jurisdictions with populations of less than 50,000.

Because it expects the impact of this rule to be so minimal, the Coast Guard certifies under section 605(b) of the Regulatory Flexibility Act (5 U.S.C. 601 et seq.) that this proposed rule will not have a significant economic impact on a substantial number of small entities.

Assistance For Small Entities

In accordance with Sec. 213(a) of the Small Business Regulatory Enforcement Fairness Act of 1996 (Public Law 104-121), the Coast Guard wants to assist small entities in understanding this rule so that they can better evaluate its effects on them and participate in the rulemaking process.

If you think that your business, organization, or governmental jurisdiction qualifies as a small entity and that this rule would have a significant economic impact on it, please submit a comment (see ADDRESSES) explaining why you think it qualifies and how and to what degree this rule would economically affect it.

Collection of Information

This proposed rule would call for no new collection of information under the Paperwork Reduction Act of 1995 (44 U.S.C. 3501-3520.).

Federalism

We have analyzed this proposed rule under E.O. 13132 and determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This proposed rule would not impose an unfunded mandate.

Taking of Private Property

This proposed rule would not effect a taking of private property or otherwise have taking implications under E.O. 12630, Governmental Actions and Interference with Constitutionally Protected Property Rights.

Civil Justice Reform

This proposed rule meets applicable standards in sections 3(a) and 3(b)(2) of E.O. 12988, Civil Justice Reform, to minimize litigation, eliminate ambiguity, and reduce burden.

Protection of Children

We have analyzed this proposed rule under E.O. 13045, Protection of Children from Environmental Health Risks and Safety Risks. This rule is not an economically significant rule and does not concern an environmental risk to health or risk to safety that may disproportionately affect children.

Environment

We have considered the environmental impact of this proposed rule and concluded that, under Figure 2-1, paragraph 34 (f), (g) and (h), of Commandant Instruction M16475.1C, it will have no significant environmental impact and it is categorically excluded from further environmental documentation. A “Categorical Exclusion Determination” is available in the docket where indicated under ADDRESSES.

List of Subjects

33 CFR Part 100

Marine safety, Navigation (water), Reporting and record keeping requirements, Waterways.

33 CFR Part 110

Anchorage Grounds

33 CFR Part 165

Harbors, Marine safety, Navigation (water), Reporting and record keeping requirements, Security measures, Waterways.

For the reasons discussed in the preamble, the Coast Guard proposes to amend 33 CFR Parts 100, 110, and 165 as follows:

PART 100—[AMENDED]

1. The authority for part 100 continues to read as follows:

Authority: 33 U.S.C. 1233 through 1236; 49 CFR 1.46; 33 CFR 100.35.

2. Add Temporary § 100.CGD1-194 to read as follows:

§ 100.CGD1-194 Regulated Area, Main Harbor, Portland, Maine.

(a) Regulated Area: A regulated area is established in the waters of Portland Harbor, Outer Harbor, Main Harbor and vicinity within the following boundaries: east of the Casco Bay Bridge in the Fore River; east of the line drawn from Fish Point at 43°39′59″ N-70°14′17″W to Back Cove Approach Buoy No 3 (LLNR 7845) at 43°40′17” N-70°14′05″ W ; south of the line thence drawn to Back Cove Approach Buoy No 4 (LLNR 7850) at 43°40′21″ N-70°13′42″ W; south-southwest of the line thence drawn to Back Cove Approach Buoy No 2 (LLNR 7850) at 43°40′10″ N-70°13′22″ W; south-southwest of the line thence drawn to Casco Bay Channel Buoy No 2 (LLNR 7235) at 43°39′50″ N-70°12′52″ W; south-southwest of the line thence drawn to House Island Buoy No 1 (LLNR 7220) at 43°39′22″ N-70°12′20″ W; west of the line thence drawn to the northernmost point of Cushing Island at 43°38′49″ N-70° 12′11″ W; west of the line from the easternmost point of Cushing Island at 43°38′43″ N-70°11′25″ W to Ram Island Ledge Light (LLNR 7575) at 43°37′54″ N-70°11′12″ W; north of the line thence drawn to Portland Head Light (LLNR 7565) at 43°37′24″ N-70°12′30″ W; thence along the shore of South Portland back to the Casco Bay Bridge.

(b) Effective dates: This regulation is effective from 11 a.m. until 4 p.m. on July 28, 2000.

(c) Special Local Regulation:

(1) No vessel except OPSAIL MAINE 2000 participating vessels and their assisting tugs, spectator vessels, and those vessels exempt from the regulations in this section, may enter or navigate within the Regulated Area, unless specifically authorized by the Coast Guard Captain of the Port, Portland, Maine or his on-scene representative.

(2) Commercial vessels which need to transit the Regulated Area, and are not going to a spectator vessel anchorage, must obtain permission from the Coast Guard Captain of the Port, Portland, Maine or his on-scene representative, prior to entering the Regulated Area.

(3) Spectator vessels within the Regulated Area shall remain in designated anchorages during the effective period unless specifically authorized by the Coast Guard Captain of the Port, Portland, or his on-scene representative.

(4) Spectator vessels transiting the Regulated Area must do so at a no wake speed, or at speeds not to exceed 5 knots, whichever is less.

(5) Not withstanding paragraph (c)(1) of this section, no vessel other than OPSAIL MAINE 2000, their assisting tugs, and enforcement vessels, may enter or navigate within the boundaries of the main shipping channel within the Regulated Area unless they are specifically authorized to do so by the Coast Guard Captain of the Port, Portland, Maine or his on-scene representative. Authorization may be obtained by contacting Coast Guard Group Portland on channel 16 VHF-FM. Any vessel authorized to enter the Regulated Area during the Parade of Tall Ships must not, under any circumstances, cross through the parade, or maneuver alongside within 100 yards of any OPSAIL MAINE 2000 vessel.

(6) No vessel is permitted to anchor in the main shipping channel at any time. Vessels which need to anchor to maintain position will only do so in designated temporary anchorage areas.

(7) All persons and vessels shall comply with the instructions of on-scene Coast Guard patrol personnel. On-scene patrol personnel include commissioned, Warrant and Petty Officers of the Coast Guard on board Coast Guard, Coast Guard Auxiliary, or local law enforcement vessels.

PART 110—[AMENDED]

3. The authority citation for Part 110 continues to read as follows:

Authority: 33 U.S.C. 471; 1221 through 1236, 2030, 2035, 2071; 49 CFR 1.46 and 33 CFR 1.05-1(g)

4. From July 28 through July 30, 2000 § 110.132 is suspended and new § 100.T136 is added as follows:

§ 110.T136 Portland Harbor, ME.

(a) The anchorages. All anchorages in this paragraph are effective as specified. Vessel operators using the anchorages in this paragraph must comply with the general operational requirements specified in paragraph (c) of this section. All coordinates are NAD 1983.

(1) Anchorage B.

(i) That area bound by the following points; 43°39′35″ N-70°13′30″ W (Fort Gorges Island Ledge Buoy 4, LLNR 7685); 43°39′50″ N-70°12′55″ W; 43°39′26″ N-70°12′27″ W; 43°39′08″ N-70°12′58″ W (NAD 1983).

(ii) Anchorage B is intended for general purposes, but especially for use by oil tankers and other large deep-draft ships entering harbor at night and intending to proceed to the dock allotted at daylight the following morning or as soon as practicable. This area is also to be used for quarantine anchorage. Vessels must be so anchored in this area as to leave at all times an open usable channel at least 100 feet wide for passage of ferry and other boats between Portland and islands in Luckse Sound and Hussey Sound. Any vessels anchored in this area shall be ready to move on short notice when ordered to do so by the Captain of the Port, or on scene Coast Guard patrol personnel.

(2) Anchorage C.

(i) That area bounded by the following points: the eastern most point on House Island 43°39′16″ N-70°12′24″ W, to the point on Cushing Island at 43°38′49″ N-70°12′11″ W; thence along the western shore of Cushing Island to its southernmost point at 43°38′03″ N-70°12′24″ W; to Maine Approach Lighted Bell Buoy “12”, (LLNR 7580) at 43°38′00″ N-70°12′30″ W; to Fort Scammel Point Light 2 (LLNR 7605) at 43°38′54″ N-70°12′54″ W; thence along the south-eastern shoreline to the beginning. (All positions NAD 1983.)

(ii) This anchorage is intended for use by small vessels and for temporary anchorages.

(3) Spectator Anchorage D.

(i) That area bound by the following points: Spring Point Ledge Light (LLNR 7610) at 43°39′06″ N-70°13′30″ W (NAD 1983); to Portland Head Light, (LLNR 7565) 43°37′24″ N-70°12′30″ W (NAD 1983); thence along the shoreline of South Portland to the point of beginning. (All positions NAD 1983.)

(ii) This anchorage is intended for use by small vessels and for temporary anchorages.

(4) Spectator Anchorage E.

(i) That area bounded by the following points: the eastern most point of Cushing Island at 43°38′43″ N-70°14′17″ W; to Ram Island Ledge Light (LLNR 7575) at 43°37′24″ N-70°12′30″ W; to the floating aids to navigation Maine Approach Lighted Bell Buoy “12” (LLNR 7580) at 43°37′24″ N-70°12′30″ W; to the southern most point of Cushing Island; thence along the south-eastern shore to the point of beginning. (All positions NAD 1983.)

(ii) This anchorage is intended for use by small vessels and for temporary anchorages.

(b) Effective dates: This section is effective from 11 a.m. until 4 p.m. on July 28, 2000.

(c) Regulations. Vessel operators using any of the anchorages established in this section shall:

(i) Ensure their vessels remain safely in position under all prevailing conditions.

(ii) Comply as directed by on-scene Coast Guard patrol personnel. On-scene Coast Guard patrol personnel include commissioned, warrant, and petty officers of the Coast Guard on board Coast Guard, Coast Guard Auxiliary, or local law enforcement vessels.

(iii) Vacate anchorages after termination of the effective period for those areas.

(iii) Not leave vessels unattended in any anchorage or spectator area at any time.

(iv) Not tie off to any buoy.

(v) Not maneuver between anchored vessels.

(vii) Not nest or tie off to other vessels in that anchorage or spectator area.

PART 165—[AMENDED]

5. The authority citation for part 165.11 continues to read:

Authority: 33 U.S.C. 1225 and 1231; 50 U.S.C. 191; 49 CFR 1.46 and 33 CFR 1.05-1(G), 6.04-1, 6.04-6, and 160.5.

6. Add new § 165.CGD1-195 to read as follows:

§ 165.CGD1-195 Safety Zone: OPSAIL Maine 2000 Fireworks Display, Portland Harbor, Portland, ME.

(a) Location. The following area is a safety zone: All waters in a radius of 1500 feet around a pyrotechnics barge located at approximate position 43°40′07″ N-70°13′45″ W (NAD 1983).

(b) Effective dates. This regulation is effective from 9 p.m. until 11 p.m. on July 28, 29 and 30, 2000.

(c) Regulations.

(1) The general regulations contained in 33 CFR 165.23 apply.

(2) Vessel operators must maneuver as directed by on-scene Coast Guard patrol personnel. On scene Coast Guard patrol personnel include commissioned, warrant, and petty officers of the Coast Guard on board Coast Guard, Coast Guard Auxiliary, or law enforcement vessels.

Dated: February 29, 2000.
G. N. Naccara,
Rear Admiral, U.S. Coast Guard, Commander, First Coast Guard District, Boston, Massachusetts.

[FR Doc. 00-6686 Filed 3-16-00; 8:45 am]

BILLING CODE 4910-15-U